EXPORT-IMPORT BANK

Sunshine Act Meeting

TIME AND DATE: Thursday, May 30, 2019, at 9:30 a.m. (EDT).

PLACE: 811 Vermont Avenue NW, Room 1125, Washington, DC 20571.

STATUS: Portions of this meeting will be open to the public. Remaining items will be closed to the public.

MATTERS TO BE CONSIDERED: Open Meeting of the Board of Directors of the Export-Import Bank of the United States (EXIM Bank):

1. Ceremonial Swearing-In of Chairman Kimberly A. Reed; Director Spencer Bachus, III; and Director Judith DelZoppo Pryor

2. Appointment of Lisa V. Terry as Chief Ethics Officer

3. Appointment of Kenneth M. Tinsley as Chief Risk Officer

4. Amendment and Restatement of the Bylaws of EXIM Bank

PORTIONS OPEN TO THE PUBLIC: The meeting will be open to public participation for Items No. 1-4 only.

CONTACT PERSON FOR MORE INFORMATION: Members of the public who wish to attend the meeting should call Kita Hall, Office of the General Counsel, 811 Vermont Avenue NW, Washington, DC 20571 (202) 565-3584 by 4:00 p.m. (EDT), Tuesday, May 28, 2019.

Joyce Brotemarkle Stone,
Assistant Corporate Secretary.

[FR Doc. 2019-10781 Filed 5-20-19; 11:15 am]

BILLING CODE P